INTERNATIONAL TRADE COMMISSION

[Investigation No. 731-TA-1089 (Final) (Remand)]

Certain Orange Juice From Brazil

AGENCY: United States International Trade Commission.

ACTION: Notice of remand proceedings.

SUMMARY: The U.S. International Trade Commission (“Commission”) hereby gives notice of the court-ordered remand of its determination in the antidumping Investigation No. 731-TA-1089 concerning certain orange juice from Brazil. For further information concerning the conduct of this proceeding and rules of general application, consult the Commission's Rules of Practice and Procedure, part 201, subparts A through E (19 CFR part 201), and part 207, subpart A (19 CFR part 207).

EFFECTIVE DATE: May 1, 2007.

FOR FURTHER INFORMATION CONTACT: Debra Baker, Office of Investigations, telephone 202-205-3180, or David Goldfine, Office of General Counsel, telephone 202-708-5452, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record of Investigation No. 731-TA-1088 may be viewed on the Commission's electronic docket (“EDIS”) at http://edis.usitc.gov.

SUPPLEMENTARY INFORMATION: Background. In March 2006, the Commission determined that an industry in the United States was materially injured by reason of imports of certain orange juice from Brazil that were allegedly sold in the United States at less than fair value. The Commission's determination was appealed to the U.S. Court of International Trade, which issued an opinion in the matter on April 12, 2007. See Tropicana Products, Inc. v. United States, Slip Op. 07-55 (Ct. Int'l Trade April 12, 2007). In its opinion, the U.S. Court of International Trade remanded the matter to the Commission for further proceedings not inconsistent with that opinion.

Participation in the proceeding. Only those persons who were interested parties to the original investigation (i.e., persons listed on the Commission Secretary's service list) and were parties to the appeal may participate in the remand proceeding. Such persons need not make any additional appearance filings with the Commission to participate in the remand proceeding. Business proprietary information (“BPI”) referred to during the remand proceeding will be governed, as appropriate, by the administrative protective order issued in the original investigation.

Written submissions. The Commission is reopening the record for the limited purpose of collecting data pertinent to its analysis called for under Bratsk Aluminum Smelter v. United States, 444 F.3d 1369 and 1375 (Fed. Cir. 2006). In addition, the Commission will permit the parties to file comments pertaining to the inquiries that are the subject of the CIT's remand instructions, but no new factual information may be submitted with these comments. Comments should be limited to no more than twenty (20) double-spaced and single-sided pages of textual material. The parties may not submit any new factual information and may not address any issue other than the inquiries that are the subject of the CIT's remand instructions. Any such comments must be filed with the Commission no later than May 31, 2007.

All written submissions must conform with the provisions of section 201.8 of the Commission's rules; any submissions that contain BPI must also conform with the requirements of sections 201.6, 207.3, and 207.7 of the Commission's rules. The Commission's rules do not authorize filing of submissions with the Secretary by facsimile or electronic means, except to the extent permitted by section 201.8 of the Commission's rules, as amended, 67 FR 68036 (Nov. 8, 2002).

In accordance with sections 201.16(c) and 207.3 of the Commission's rules, each document filed by a party to the investigation must be served on all other parties to the investigation (as identified by either the public or BPI service list), and a certificate of service must be timely filed. The Secretary will not accept a document for filing without a certificate of service.

Parties are also advised to consult with the Commission's Rules of Practice and Procedure, part 201, subparts A through E (19 CFR part 201), and part 207, subpart A (19 CFR part 207) for provisions of general applicability concerning written submissions to the Commission.

By order of the Commission.
Issued: May 1, 2007.
Marilyn R. Abbott,
Secretary to the Commission.

[FR Doc. E7-8615 Filed 5-4-07; 8:45 am]

BILLING CODE 7020-02-P